DEPARTMENT OF THE TREASURY

Government Securities: Call for Large Position Reports

AGENCY: Office of the Under Secretary for Domestic Finance, Treasury.

ACTION: Notice.

SUMMARY: The Department of the Treasury (“Department” or “Treasury”) called for the submission of Large Position Reports by those entities whose reportable positions in the 4% Treasury Notes of April 2003 equaled or exceeded $2 billion as of close of business May 25, 2001.

DATES: Large Position Reports must be received before noon Eastern time on June 8, 2001.

ADDRESSES: The reports must be submitted to the Federal Reserve Bank of New York, Securities Reports Division, 4th Floor, 33 Liberty Street, New York, New York 10045; or faxed to 212-720-5030.

FOR FURTHER INFORMATION CONTACT: Lori Santamorena, Executive Director; Lee Grandy, Associate Director; or Nadir Isfahani, Government Securities Specialist; Bureau of the Public Debt, Department of the Treasury, at 202-691-3632.

SUPPLEMENTARY INFORMATION: Pursuant to the Department's large position rules under the Government Securities Act regulations (17 CFR part 420), the Treasury, in a press release issued on June 4, 2001, and in this Federal Register notice, called for Large Position Reports from those entities whose reportable positions in the 4% Treasury Notes of April 2003, Series P-2003, equaled or exceeded $2 billion as of the close of business Friday, May 25, 2001. This call for Large Position Reports is a test. Entities whose reportable positions in this note equaled or exceeded the $2 billion threshold must report these positions to the Federal Reserve Bank of New York. Entities with positions in this note below $2 billion are not required to file Large Position Reports. Large Position Reports, which must include the required position and administrative information, must be received by the Securities Reports Division of the Federal Reserve Bank of New York before noon Eastern time on Friday, June 8, 2001. The Reports may be filed by facsimile at (212) 720-5030 or delivered to the Bank at 33 Liberty Street, 4th floor.

The 4% Treasury Notes of April 2003 have a CUSIP number of 912827 6W 7, a STRIPS principal component CUSIP number of 912820 GF 8, and a maturity date of April 30, 2003.

The press release and a copy of a sample Large Position Report, which appears in Appendix B of the rules at 17 CFR part 420, can be obtained by calling (202) 622-2040 and requesting document number 405. These documents are also available at the Bureau of the Public Debt's Internet site at the following address: www.publicdebt.treas.gov.

Questions about Treasury's large position reporting rules should be directed to Public Debt's Government Securities Regulations Staff at (202) 691-3632. Questions regarding the method of submission of Large Position Reports may be directed to the Securities Reports Division of the Federal Reserve Bank of New York at (212) 720-1449.

The collection of large position information has been approved by the Office of Management and Budget pursuant to the Paperwork Reduction Act under OMB Control Number 1535-0089.

Dated: June 1, 2001.
Donald V. Hammond,
Acting Under Secretary, Domestic Finance.

[FR Doc. 01-14337 Filed 6-4-01; 2:33 pm]

BILLING CODE 4810-39-P